DEPARTMENT OF TRANSPORTATION

Federal Aviation Administration

Agency Information Collection Activities: Requests for Comments; Clearance of Renewed Approval of Information Collection: NAS Data Release Request

AGENCY: Federal Aviation Administration (FAA), DOT.

ACTION: Notice and request for comments.

SUMMARY: In accordance with the Paperwork Reduction Act of 1995, FAA invites public comments about our intention to request the Office of Management and Budget (OMB) approval to renew a previously approved information collection. The information enables the FAA to evaluate the validity of the user's request for National Airspace (NAS) data from FAA systems and equipment.

DATES: Written comments should be submitted by August 18, 2017.

ADDRESSES: Send comments to the FAA at the following address: Ronda Thompson, Federal Aviation Administration, ASP-110, 800 Independence Ave. SW., Washington, DC 20591.

PUBLIC COMMENTS INVITED: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson by email at: Ronda.Thompson@faa.gov; phone: 202-267-1416.

SUPPLEMENTARY INFORMATION:

OMB Control Number: 2120-0668.

Title: NAS Data Release Request.

Form Numbers: FAA Form 1200-5.

Type of Review: Renewal of an information collection.

Background: This data collection is the genesis for granting approval to release filtered NAS data. The information provided sets the criteria for the FAA Data Release Request Committee (DRRC) to approve or disapprove individual requests for NAS data. The information submitted by the requestor determines the requestor's eligibility to use FAA NAS data. The agency currently uses the collected information to determine suitability for procuring NAS data for use in various evaluations.

Respondents: Approximately 9 data requestors annually.

Frequency: On occasion.

Estimated Average Burden per Response: 3 hours.

Estimated Total Annual Burden: 27 hours.

Issued in Washington, DC, on June 5, 2017.
Ronda L. Thompson,
FAA Information Collection Clearance Officer, Performance, Policy, and Records Management Branch, ASP-110.

[FR Doc. 2017-12701 Filed 6-16-17; 8:45 am]

BILLING CODE 4910-13-P